DEPARTMENT OF COMMERCE

National Oceanic and Atmospheric Administration

[RTID 0648-XB804]

Notice of Availability of the Deepwater Horizon Oil Spill Alabama Trustee Implementation Group Draft Swift Tract Living Shoreline Supplemental Environmental Assessment

AGENCY: National Marine Fisheries Service (NMFS), National Oceanic and Atmospheric Administration (NOAA), Commerce.

ACTION: Notice of availability; request for comments.

SUMMARY: In accordance with the Oil Pollution Act of 1990 (OPA), the National Environmental Policy Act (NEPA), and a Consent Decree with BP Exploration & Production Inc. (BP), the Deepwater Horizon (DWH) Federal natural resource trustee agencies for the Alabama Trustee Implementation Group (Alabama TIG) have prepared a Draft Swift Tract Living Shoreline Supplemental Environmental Assessment (Draft Supplemental EA). This Draft Supplemental EA evaluates the proposed removal of rocks from the bay bottom near the Swift Tract project action area and the placement of the removed rocks on a nearby breakwater. The proposed action falls within the general scope of the purpose and need for the original project, Swift Tract Living Shoreline, identified in the Deepwater Horizon Oil Spill Programmatic and Phase III Early Restoration Plan and Early Restoration Programmatic Environmental Impact Statement (Phase III ERP/PEIS) and is consistent with the Deepwater Horizon Oil Spill Final Programmatic Damage Assessment and Restoration Plan and Final Programmatic Environmental Impact Statement (PDARP/PEIS), as it focuses on the restoration of injuries to Alabama's natural resources and services—in particular to Restoration Type: “Wetlands, Coastal, and Nearshore Habitats,” using funds made available in early restoration and through the DWH Consent Decree (see Final PDARP/PEIS [DWH Trustees 2016: Chapter 10]). The Alabama TIG evaluated the environmental consequences of the alternatives in accordance with NEPA. The purpose of this notice is to inform the public of the availability of the Draft Supplemental EA and to seek public comments on the document.

DATES: The Alabama TIG will consider public comments received on or before March 28, 2022.

ADDRESSES: Obtaining Documents: You may access the Draft Supplemental EA from the “News” section of the Alabama TIG website at: http://www.gulfspillrestoration.noaa.gov/restoration-areas/alabama. Alternatively, you may request a CD of the Draft Supplemental EA (see FOR FURTHER INFORMATION CONTACT below).

Submitting Comments: You may submit comments on the Draft Supplemental EA by one of the following methods:

• Via the Web: http://www.gulfspillrestoration.noaa.gov/restoration-areas/alabama;

• Via U.S. Mail: U.S. Fish and Wildlife Service, P.O. Box 29649, Atlanta, GA 30345. Please note that mailed comments must be postmarked on or before the comment deadline given in DATES.

Before including your address, phone number, email address, or other personal identifying information in your comment, you should be aware that your entire comment—including your personal identifying information—may be made publicly available at any time. While you can ask us in your comment to withhold your personal identifying information from public review, we cannot guarantee that we will be able to do so.

FOR FURTHER INFORMATION CONTACT: Stella Wilson, NOAA Restoration Center, 850-332-4169, estelle.wilson@noaa.gov.

SUPPLEMENTARY INFORMATION:

Introduction

On April 20, 2010, the mobile offshore drilling unit Deepwater Horizon, which was being used to drill a well for BP Exploration and Production, Inc. (BP), in the Macondo prospect (Mississippi Canyon 252-MC252), experienced a significant explosion, fire, and subsequent sinking in the Gulf of Mexico, resulting in an unprecedented volume of oil and other discharges from the rig and from the wellhead on the seabed. The DWH oil spill is the largest off shore oil spill in U.S. history, discharging millions of barrels of oil over a period of 87 days. In addition, well over one million gallons of dispersants were applied to the waters of the spill area in an attempt to disperse the spilled oil. An undetermined amount of natural gas was also released into the environment as a result of the spill.

The DWH Federal and State natural resource trustees (DWH Trustees) conducted the natural resource damage assessment for the DWH oil spill under OPA (OPA; 33 U.S.C. 2701 et seq.). Pursuant to OPA, Federal and State agencies act as trustees on behalf of the public to assess natural resource injuries and losses and to determine the actions required to compensate the public for those injuries and losses. OPA further instructs the designated trustees to develop and implement a plan for the restoration, rehabilitation, replacement, or acquisition of the equivalent of the injured natural resources under their trusteeship, including the loss of use and services from those resources from the time of injury until the time of restoration to baseline (the resource quality and conditions that would exist if the spill had not occurred) is complete.

The DWH Trustees are:

• U.S. Department of the Interior (DOI), as represented by the National Park Service, U.S. Fish and Wildlife Service, and Bureau of Land Management;

• National Oceanic and Atmospheric Administration (NOAA), on behalf of the U.S. Department of Commerce;

• U.S. Department of Agriculture (USDA);

• U.S. Environmental Protection Agency (EPA);

• State of Louisiana Coastal Protection and Restoration Authority, Oil Spill Coordinator's Office, Department of Environmental Quality, Department of Wildlife and Fisheries, and Department of Natural Resources;

• State of Mississippi Department of Environmental Quality;

• State of Alabama Department of Conservation and Natural Resources and Geological Survey of Alabama;

• State of Florida Department of Environmental Protection and Fish and Wildlife Conservation Commission; and

• State of Texas: Texas Parks and Wildlife Department, Texas General Land Office, and Texas Commission on Environmental Quality.

The Trustees reached and finalized a settlement of their natural resource damage claims with BP in an April 4, 2016, Consent Decree approved by the United States District Court for the Eastern District of Louisiana. Pursuant to that Consent Decree, restoration projects in the Alabama Restoration Area are now selected and implemented by the Alabama TIG.

Background

The Alabama Swift Tract Living Shoreline project (hereafter “the project”) was selected in the Final Programmatic and Phase III Early Restoration Plan and Early Restoration Programmatic Environmental Impact Statement (Phase III ERP/PEIS). NOAA is the lead implementing Trustee for the project. The original Swift Tract project is located in the eastern portion of Bon Secour Bay (part of Mobile Bay) approximately 6 miles northwest of Gulf Shores in Baldwin County, Alabama. Construction was completed in February 2017 and 7 years of post-construction performance monitoring is ongoing. The project created approximately 1.75 miles (2.8 kilometers) of breakwaters in Bon Secour Bay to dampen wave energy and reduce shoreline erosion, while also providing habitat and increasing benthic secondary productivity. The project is adjacent to the Weeks Bay National Estuarine Research Reserve (NERR) and within the NERR buffer area.

Following construction completion, NOAA project team members were notified that there may be rocks located in Bon Secour Bay the project site, but outside the footprint of the breakwater. Thus, in March 2018, NOAA, through its contractor, collected sidescan sonar acoustic imaging, magnetometer, and single beam bathymetry surveys of the water bottom adjacent to the breakwaters to determine the location of any potential rock piles near the breakwater construction area. The results indicate that there are several hard surface contacts, likely rock piles, within the survey area. Recommendations from a corrective action report include either removing the material or leaving the material in-place as reef habitat. Both alternatives are evaluated in this Draft Supplemental EA.

Overview of the Alabama TIG Draft Supplemental EA

As described in Section III of this Draft Supplemental EA (the “OPA Summary”), the Alabama TIG has determined that the proposed corrective action does not alter its original conclusions for the Swift Tract project under OPA and its implementing regulations. Thus, the Alabama TIG concludes that implementation of the corrective action proposed in this Supplemental EA does not require further OPA evaluation, and this Supplemental EA focuses its analysis on the potential environmental impacts of the proposed corrective action under NEPA.

This Supplemental EA provides NEPA analysis for the Swift Tract proposed corrective action by supplementing the NEPA analysis for the Phase III ERP/PEIS. The supplemental NEPA analysis provided in this Swift Tract Supplemental EA augments and incorporates by reference the applicable sections (Chapter 11, Affected Environment, Environmental Consequences for the Swift Tract Restoration Project) of the Phase III ERP/PEIS. This supplemental analysis considers any additional environmental impacts that would result from implementation of the corrective action that are not described and analyzed in the Phase III ERP/PEIS.

The Draft Supplemental EA evaluates the proposed removal of rocks from the bay bottom near the Swift Tract project action area and the placement of the removed rocks on a nearby breakwater.

The proposed rock removal and breakwater placement locations are adjacent to, but outside of, the project action area identified in the Final Phase III ERP/PEIS. Due to the close proximity of the new removal and placement areas to the existing Swift Tract breakwater, the Affected Environment for the proposed removal and placement areas would be the same as that evaluated for the Swift Tract breakwater in the Phase III ERP/PEIS. The environmental consequences of the proposed corrective action are also anticipated to fall generally within the scope of the environmental consequences evaluated for the original project. Therefore, the Environmental Consequences reviewed in the Swift Tract project evaluation, in Chapter 11, Section 11.4 of the Final Phase III ERP/PEIS, are reviewed in the Supplemental EA to evaluate the likely environmental consequences of the proposed corrective action and the “No Action” alternatives to determine whether implementation of the proposed corrective action may alter the conclusions made in the Final Phase III ERP/PEIS. Under the “No Action” alternative, the rocks currently located on the water bottom would not be removed from the water bottom and would instead be left in place.

Next Steps

The public is encouraged to review and comment on the Draft Supplemental EA. After the public comment period ends, the Alabama TIG will consider and address comments received before issuing a Final Supplemental EA. A summary of comments received and the Alabama TIG's responses and any revisions to the document, as appropriate, will be included in the final document.

Administrative Record

The documents comprising the Administrative Record for the Draft Supplemental EA can be viewed electronically at http://www.doi.gov/deepwaterhorizon/adminrecord.

Authority

The authority of this action is the Oil Pollution Act of 1990 (33 U.S.C. 2701 et seq.) and its implementing Oil Pollution Act Natural Resource Damage Assessment regulations found at 15 CFR part 990 and the National Environmental Policy Act of 1969 (42 U.S.C. 4321 et seq.).

Dated: February 17, 2022.
Carrie Diane Robinson,
Director, Office of Habitat Conservation, National Marine Fisheries Service.

[FR Doc. 2022-03887 Filed 2-23-22; 8:45 am]

BILLING CODE 3510-22-P